DEPARTMENT OF LABOR

Employment and Training Administration

[TA-W-61,159]

Sony Technology Center—Pittsburgh; SXRD Rear Projection Television Division Including On-Site Leased Workers of Staffmark and Ruggieri Enterprises, D/B/A Spherion, Employed Through Staffmark; Mt. Pleasant, PA; Amended Certification Regarding Eligibility To Apply for Worker Adjustment Assistance and Alternative Trade Adjustment Assistance

In accordance with Section 223 of the Trade Act of 1974 (19 U.S.C. 2273), and Section 246 of the Trade Act of 1974 (26 U.S.C. 2813), as amended, the Department of Labor issued a Certification of Eligibility to Apply for Worker Adjustment Assistance and Alternative Trade Adjustment Assistance on April 12, 2007, applicable to workers of Sony Technology Center—Pittsburgh, SXRD Rear Projection Television Division, including on-site leased workers of Staffmark, Mt. Pleasant, Pennsylvania. The notice was published in the Federal Register on April 26, 2007 (72 FR 20873).

At the request of the State agency, the Department reviewed the certification for workers of the subject firm. The workers are engaged in the production of large screen rear projection televisions.

New information shows that leased workers of Ruggieri Enterprises, d/b/a Spherion, were employed on-site through Staffmark, at the Mt. Pleasant, Pennsylvania location of Sony Technology Center—Pittsburgh, SXRD Rear Projection Television Division.

Based on these findings, the Department is amending this certification to include leased workers of Ruggieri Enterprises, d/b/a Spherion, working on-site through Staffmark, at the Anderson, Indiana location of the subject firm.

The intent of the Department's certification is to include all workers employed on-site at Sony Technology Center—Pittsburgh, SXRD Rear Projection Television Division, Mt. Pleasant, Pennsylvania who were adversely affected by a shift in production to Mexico.

The amended notice applicable to TA-W-61,159 is hereby issued as follows:

All workers of Sony Electronics Center—Pittsburgh, SXRD Rear Projection Television Division including leased workers of Staffmark and Ruggieri Enterprises, d/b/a Spherion, employed through Staffmark, Mt. Pleasant, Pennsylvania, who became totally or partially separated from employment on or after March 20, 2006, through April 12, 2009, are eligible to apply for adjustment assistance under Section 223 of the Trade Act of 1974, and are also eligible to apply for alternative trade adjustment assistance under Section 246 of the Trade Act of 1974.

Signed at Washington, DC, this 7th day of May 2007.
Richard Church,
Certifying Officer, Division of Trade Adjustment Assistance.

[FR Doc. E7-9107 Filed 5-10-07; 8:45 am]

BILLING CODE 4510-FN-P